DEPARTMENT OF LABOR

Mine Safety and Health Administration

Affirmative Decisions on Petitions for Modification Granted in Whole or in Part

AGENCY: Mine Safety and Health Administration (MSHA), Labor.

ACTION: Notice.

SUMMARY: The Federal Mine Safety and Health Act of 1977 and the Code of Federal Regulations govern the application, processing, and disposition of petitions for modification. This Federal Register notice notifies the public that MSHA has investigated and issued a final decision on certain mine operator petitions to modify a safety standard.

ADDRESSES: Copies of the final decisions are posted on MSHA's website at https://www.msha.gov/regulations/rulemaking/petitions-modification. The public may inspect the petitions and final decisions during normal business hours in MSHA's Office of Standards, Regulations, and Variances, 201 12th Street South, Suite 4E401, Arlington, Virginia 22202. All visitors are required to check in at the receptionist's desk in Suite 4E401.

FOR FURTHER INFORMATION CONTACT: Barbara Barron at 202-693-9447 (voice), barron.barbara@dol.gov (email), or 202-693-9441 (fax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2016-033-C.

FR Notice: 81 FR 81811 (11/18/2016).

Petitioner: Mach Mining LLC, P.O. Box 300, Johnston City, Illinois 62951.

Mine: Mach No. 1 Mine, MSHA I.D. No. 11-03141, located in Williamson County, Illinois.

Regulation Affected: 30 CFR 75.503 (Permissible electric face equipment; maintenance) and 30 CFR 18.35(a)(5)(i) (Portable (trailing) cables and cords).

• Docket Number: M-2017-013-C.

FR Notice: 82 FR 34700 (7/26/2017).

Petitioner: Texas Westmoreland Coal Company, P.O. Box 915, Jewett, Texas 75846.

Mine: Jewett Mine, MSHA I.D. No. 41-03164, located in Leon County, Texas.

Regulation Affected: 30 CFR 77.803 (Fail safe ground check circuits on high-voltage resistance grounded systems).

• Docket Number: M-2017-019-C.

FR Notice: 82 FR 49684 (10/26/2017).

Petitioner: Marfork Coal Company, LLC, 500 Lee Street East, Suite 701 (25301), Post Office Box 2548, Charleston, West Virginia 25329.

Mine: Slip Ridge Cedar Grove Mine, MSHA I.D. No. 46-09048, located in Raleigh County, West Virginia.

Regulation Affected: 30 CFR 75.360 (Preshift examination at fixed intervals).

• Docket Number: M-2017-021-C.

FR Notice: 82 FR 60045 (12/18/2017).

Petitioner: Rosebud Mining Company, 301 Market Street, Kittanning, Pennsylvania 16201.

Mines: Lowry Mine, MSHA I.D. No. 36-09287 and Heilwood Mine, MSHA I.D. No. 36-09407, located in Indiana County, Pennsylvania; Penfield Mine, MSHA I.D. No. 36-09355, located in Clearfield County, Pennsylvania; and Mine 78, MSHA I.D. No. 36-09371, located in Somerset County, Pennsylvania.

Regulation Affected: 30 CFR 75.503 (Permissible electric face equipment; maintenance) and 30 CFR 18.35(a)(5)(i) (Portable (trailing) cables and cords).

• Docket Number: M-2018-013-C.

FR Notice: 83 FR 17686 (4/23/2018).

Petitioner: The Coteau Properties Company, 204 County Road, Beulah, North Dakota 58523-9475.

Mine: Freedom Mine, MSHA I.D. No. 32-00595, located in Mercer County, North Dakota.

Regulation Affected: 30 CFR 77.1607(u) (Loading and haulage equipment; operation).

• Docket Number: M-2018-001-M.

FR Notice: 83 FR 4929 (2/2/2018).

Petitioner: Martin Marietta Kansas City, LLC, 1099 18th Street, Suite 2150, Denver, Colorado 80202.

Mines: Randolph Deep Mine, MSHA I.D. No. 23-02308, located in Clay County, Missouri; Stamper Underground Mine, MSHA I.D, No. 23-02232 and Parkville Quarry, MSHA I.D. No. 23-01883, located in Platte County, Missouri.

Regulation Affected: 30 CFR 49.6(a)(1) (Equipment and maintenance requirements).

• Docket Number: M-2018-002-M.

FR Notice: 83 FR 7780 (2/22/2018).

Petitioner: Central Plains Cement Company, 1801 Wewatta Street, Suite 1000, Denver, Colorado 80202.

Mine: Sugar Creek Underground Mine, MSHA I.D. No. 23-02171, located in Jackson County, Missouri.

Regulation Affected: 30 CFR 49.6(a)(1) (Equipment and maintenance requirements).

Roslyn B. Fontaine,
Deputy Director, Office of Standards, Regulations, and Variances.

[FR Doc. 2018-23649 Filed 10-29-18; 8:45 am]

BILLING CODE 4520-43-P